DEPARTMENT OF HEALTH AND HUMAN SERVICES

Administration for Community Living

Agency Information Collection Activities; Proposed Collection; Comment Request; University Centers of Excellence in Developmental Disabilities Education, Research and Service Annual Report [OMB #0985-0030]

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Extension with revision and solicits comments on the information collection requirements related to the University Centers of Excellence in Developmental Disabilities (UCEDD) Education, Research and Service final 5-year report.

DATES: Comments on the collection of information must be submitted electronically by 11:59 p.m. (EST) or postmarked by May 4, 2020.

ADDRESSES: Submit electronic comments on the collection of information to: Pamela O'Brien, Project Officer. Submit written comments on the collection of information to Administration for Community Living, Washington, DC 20201, Attention: Pamela O'Brien.

FOR FURTHER INFORMATION CONTACT: Pamela O'Brien, Administration for Community Living, Washington, and DC 20201, (202) 795-7417.

SUPPLEMENTARY INFORMATION: Under the PRA (44 U.S.C. 3501-3520), Federal agencies must obtain approval from the Office of Management and Budget (OMB) for each collection of information they conduct or sponsor. “Collection of information” is defined in the PRA and includes agency requests or requirements that members of the public submit reports, keep records, or provide information to a third party. The PRA (44 U.S.C. 3506(c)(2)(A)) requires Federal agencies to provide a 60-day notice in the Federal Register concerning each proposed collection of information, including each proposed extension of an existing collection of information, before submitting the collection to OMB for approval.

To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Developmental Disabilities Assistance and Bill of Rights Act of 2000 (DD Act of 2000) directs the Secretary of Health and Human Services to develop and implement a system of program accountability to monitor the grantees funded under the DD Act of 2000. The program accountability system shall include the National Network of University Centers for Excellence in Developmental Disabilities (UCEDD) Education, Research, and Service.

The DD Act of 2000 states that the UCEDD Annual Report should contain information on progress made in achieving the projected goals of the Center for the previous year.

Reporting on the extent to which the goals were achieved; a description of the strategies that contributed to achieving the goals; the extent to which the goals were not achieved, a description of factors that impeded the achievement; and an accounting of the manner in which funds paid to the Center under this subtitle for a fiscal year were expended. Information on proposed revisions to the goals and a description of successful efforts to leverage funds, other than funds made available under the DD Act of 2000.

In addition, the DD Act of 2000 states those grantees must also report on data collected regarding:

(1) Consumer satisfaction with the advocacy;

(2) capacity building;

(3) systemic change activities initiated by the UCEDD;

(4) the extent to which the UCEDD's advocacy, capacity building, and systemic change activities provided results through improvements; and

(5) the extent to which collaboration was achieved in the areas of advocacy, capacity building, and systemic change.

UCEDD is a discretionary grant program that supports States the operation and administration of a national network of UCEDDs in the States. UCEDDS are interdisciplinary education, research, and public service units of universities, public or not-for-profit entities associated with universities that engage in core functions. For example, provision of interdisciplinary pre-service preparation and continuing education of students and fellows; provision of community services, including training or technical assistance; conduct of research; and dissemination of information.

Addressing, directly or indirectly one or more of the areas of emphasis such as, quality assurance, education and early intervention, child care, health, employment, housing, transportation, recreation, and other services available or offered to individuals in a community, including formal and informal community supports, that affect their quality of life.

Currently, UCEDDs engage in four broad tasks: Conducting interdisciplinary training, promoting exemplary community service programs and providing technical assistance at all levels from local service delivery to community and state governments, conducting research, and disseminating information to the field.

UCEDD accomplishments include:

• Directing exemplary training programs. The provision of training is offered in an interdisciplinary format where faculty and trainees represent a variety of disciplines, such as pediatrics, education, psychology, and nursing thereby expanding opportunities for students to learn about the differing perspectives of various professionals providing services to individuals with developmental disabilities and their families.

• Providing community services and technical assistance. Staff offer expertise through training and technical assistance activities to individuals with developmental disabilities, family members of these individuals, professionals, paraprofessionals, students, systems, support service organizations, volunteers, among others.

• Contributing to the development of new knowledge through research and information dissemination. UCEDDs develop and field test models of service delivery and evaluate existing innovative practices, which are then disseminated to the field to translate research into practice.

The proposed data collection tools may be found on the ACL website for review at https://www.acl.gov/about-acl/public-input.

Estimated Program Burden: ACL estimates the burden associated with this collection of information as follows:

Respondent/data collection activity | Number of respondents | Responses per respondent | Hours per response | Annual burden hours
Total | 67 | 1 | 143 | 9,581

Dated: February 25, 2020.
Lance Robertson,
Administrator and Assistant Secretary for Aging.

[FR Doc. 2020-04414 Filed 3-3-20; 8:45 am]

BILLING CODE 4154-01-P